DEPARTMENT OF THE INTERIOR

Bureau of Land Management

[NV-058-01-1610-DG]

Proposed General Management Plan and Final Environmental Impact Statement for the Red Rock Canyon National Conservation Area

January 4, 2001.

AGENCY: Department of the Interior, Bureau of Land Management.

ACTION: Notice of action.

SUMMARY: Notice of availability for the Proposed General Management Plan and Final Environmental Impact Statement (GMP/FEIS) for Red Rock Canyon National Conservation Area was submitted on December 14, 2000. The General Management Plan will be a stand alone document (does not tier from another document), although it does include one action that will amend the Las Vegas Resource Management Plan (RMP). The action included in the GMP makes adjustments to the Red Rock Herd Management Area (HMA) as designated in the RMP. The adjustments reflect the actual use areas the animals have used over time and include some minor deletions as well as additions to the HMA, allowing a more accurate designation.

The RMP amendment, which makes adjustments to the Red Rock Herd Management Area, can be reviewed in the Proposed GMP/FEIS for Red Rock Canyon and will be open to a 30 day protest period beginning February 15, 2001 and ending March 16, 2001. The proposed action may be protested by any person who participated in the planning process and who has an interest which is or may be adversely affected by the approval of the HMA boundary adjustments. A protest may raise only those issues which were submitted for the record during the planning process (see 43 Code of Federal Regulations 1610.5-2).

All protests must be written and must be postmarked on or before March 16, 2001 and shall contain the following information:

The name, mailing address, telephone number and interest of the person filing the protest.

A statement of the issue or issues being protested.

A statement of the part or parts of the document being protested.

A copy of all documents addressing the issue or issues previously submitted during the planning process by the protesting party, or an indication of the date the issue or issues were discussed for the record.

A concise statement explaining precisely why the Bureau of Land Management, Nevada State Director's decision is wrong.

Upon resolution of any protests, an Approved Plan and record of Decision will be issued. The approved Plan/Record of Decision will be mailed to all individuals who participated in this planning process and all other interested publics upon their request.

ADDRESSES: Protests must be filed with: Director, Bureau of Land Management, Attn. Ms. Brenda Williams, Protest Coordinator, 1849 C Street, NW, Washington, D.C. 20240.

Copies of the Proposed GMP may be obtained from the Las Vegas Field Office, W. Vegas Drive, Las Vegas, NV 89108.

Public reading copies are available for review at the Clark County public libraries, all government repository libraries and the following BLM locations:

Office of External Affairs, Main Interior Building, Room 5000, 1849 C Street, NW, Washington, DC;

Public Room, Nevada State Office, 1340 Financial Blvd., Reno, NV; and the Las Vegas Field Office at the above address.

FOR FURTHER INFORMATION CONTACT: Gene Arnesen (702-647-5068), GMP Team Leader or Jeff Steinmetz (702-647-5097), RMP Team Leader. Both are located at BLM's Las Vegas Field Office listed above.

Dated: January 4, 2001.
John Jamrog,
Acting Las Vegas Field Office Manager.

[FR Doc. 01-1625 Filed 1-22-01; 8:45 am]

BILLING CODE 4310-HC-M